DEPARTMENT OF TRANSPORTATION

Federal Aviation Administration

Membership Availability in the National Parks Overflights Advisory Group Aviation; Rulemaking Committee—Representative of Native American Tribes

ACTION: Notice.

SUMMARY: The National Park Service (NPS) and the Federal Aviation Administration (FAA), as required by the National Parks Air Tour Management Act of 2000, established the National Parks Overflights Advisory Group (NPOAG) in March 2001. The NPOAG was formed to provide continuing advice and counsel with respect to commercial air tour operations over and near national parks. This notice informs the public of a vacancy (due to completion of membership on April 2, 2009) on the NPOAG (now the NPOAG Aviation Rulemaking Committee (ARC)) for a representative of Native American tribal concerns and invites interested persons to apply to fill the vacancy.

DATES: Persons interested in serving on the NPOAG ARC should contact Mr. Barry Brayer in writing and postmarked or e-mailed on or before November 14, 2008.

FOR FURTHER INFORMATION CONTACT: Barry Brayer, AWP-1SP, Special Programs Staff, Federal Aviation Administration, Western-Pacific Region Headquarters, P.O. Box 92007, Los Angeles, CA 90009-2007, telephone: (310) 725-3800, e-mail: Barry.Brayer@faa.gov.

SUPPLEMENTARY INFORMATION:

Background

The National Parks Air Tour Management Act of 2000 (the Act) was enacted on April 5, 2000, as Public Law 106-181. The Act required the establishment of the advisory group within 1 year after its enactment. The advisory group was established in March 2001, and is comprised of a balanced group of representatives of general aviation, commercial air tour operations, environmental concerns, and Native American tribes. The Administrator of the FAA and the Director of NPS (or their designees) serve as ex officio members of the group. Representatives of the Administrator and Director serve alternating 1-year terms as chairman of the advisory group.

The advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Members of the advisory group may be allowed certain travel expenses as authorized by section 5703 of Title 5, United States Code, for intermittent Government service.

By FAA Order No. 1110-138, signed by the FAA Administrator on October 10, 2003, the NPOAG became an Aviation Rulemaking Committee (ARC). FAA Order No. 1110-138, was amended and became effective as FAA Order No. 1110-138A, on January 20, 2006.

The current NPOAG ARC is made up of one member representing general aviation, three members representing the air tour industry, four members representing environmental concerns, and two members representing Native American interests. Current members of the NPOAG ARC are: Melissa Rudinger, Aircraft Owners and Pilots Association; Alan Stephen, fixed-winged air tour operator representative; Elling Halvorson, Papillon Airways, Inc.; Matthew Zuccaro, Helicopters Association International; Chip Dennerlein, Siskiyou Project; Gregory Miller, American Hiking Society; Kristen Brengel, The Wilderness Society; Don Barger, National Parks Conservation Association; Rory Majenty, Hualapai Nation; and Richard Deertrack, Taos Pueblo.

Public Participation in the NPOAG ARC

In order to retain balance within the NPOAG ARC, the FAA and NPS invite persons interested in serving on the ARC to represent Native American tribes, to contact Mr. Barry Brayer (contact information is written above in FOR FURTHER INFORMATION CONTACT ).

Requests to serve on the ARC must be made to Mr. Brayer in writing and postmarked or e mailed on or before November 14, 2008. The request should indicate whether or not you are a member of an association or group related to Native American tribal issues or concerns or have another affiliation with issues relating to aircraft flights over national parks. The request should also state what expertise you would bring to the NPOAG ARC as related to tribal concerns. The term of service for NPOAG ARC members is 3 years.

Issued in Hawthorne, CA on October 6, 2008.
Barry Brayer,
NPOAG Chairman, Manager, Special Programs Staff, Western-Pacific Region.

[FR Doc. E8-24261 Filed 10-15-08; 8:45 am]

BILLING CODE 4910-13-M